DEPARTMENT OF HEALTH AND HUMAN SERVICES

Indian Health Service

48 CFR Parts 32 and 352

[Docket No. O1-2012-0005]

RIN 0917-AA18

Acquisition Regulations; Buy Indian Act; Procedures for Contracting; Reopening and Extension of Comment Period

AGENCY: Indian Health Service (IHS), HHS.

ACTION: Proposed rule; reopening and extension of comment period.

SUMMARY: The Indian Health Service (IHS) is reopening and extending the comment period for the proposed rule entitled “Acquisition Regulations; Buy Indian Act; Procedures for Contracting.” This action is being taken in response to requests from stakeholders to extend the comment period to allow additional time for interested persons to submit comments on the proposed rule.

DATES: IHS is reopening and extending the comment period on the proposed rule published November 10, 2020 (85 FR 71596) for 60 days. Submit either electronic or written comments on the proposed rule by June 21, 2021.

ADDRESSES: You may submit comments as follows. Please note that late, untimely filed comments will not be considered. Electronic comments must be submitted on or before June 21, 2021. The https://www.regulations.gov electronic filing system will accept comments until 11:59 p.m. Eastern Time at the end of June 21, 2021. Comments received by mail/hand delivery/courier (for written/paper submissions) will be considered timely if they are postmarked or the delivery service acceptance receipt is on or before that date.

Electronic Submissions

Submit electronic comments in the following way:

• Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as medical information, your or anyone else's Social Security number, or confidential business information, such as a manufacturing process. Please note that if you include your name, contact information, or other information that identifies you in the body of your comments, that information will be posted on https://www.regulations.gov.

• If you want to submit a comment with confidential information that you do not wish to be made available to the public, submit the comment as a written/paper submission and in the manner detailed (see “Written/Paper Submissions” and “Instructions”).

Written/Paper Submissions

You may send comments identified by docket number OI-2012-0005 using any of the following methods:

Carl Mitchell, Director, Division of Regulatory Policy Coordination (DRPC), Office of Management Services (OMS), Indian Health Service, 5600 Fishers Lane, Mail Stop 09E70, Rockville, MD 20857.

Tiffani Redding, Director, Office of Recipient Integrity Coordination (ORIC), Department of Health and Human Services, Office of the Assistant Secretary for Financial Resources (ASFR), Room 533H, Hubert H. Humphrey Building, 200 Independence Avenue SW, Washington, DC 20201.

FOR FURTHER INFORMATION CONTACT: For technical questions concerning this proposed rule contact:

Carl Mitchell, Director, Division of Regulatory Policy Coordination (DRPC), Office of Management Services, Indian Health Service, 301-443-6384, carl.mitchell@ihs.gov; or Santiago Almaraz, Acting Director Office of Management Services, Indian Health Service, 301-443-4872, santiago.almaraz@ihs.gov.

SUPPLEMENTARY INFORMATION: In the Federal Register of November 10, 2020 (85 FR 71596), the Indian Health Service (IHS) published a proposed rule entitled “Acquisition Regulations; Buy Indian Act; Procedures for Contracting” with a 60-day comment period.

Comments have been received from tribes and tribal entities requesting an extension of the comment period due to the encompassing of the holiday season during the original comment period, as well as the disproportionately high impact of the pandemic on Indian Country. Both of these events have delayed stakeholders from being able to perform a complete and full review of the proposed rule and provide comments within the initial 60-day comment period.

IHS has concluded that it is reasonable to reopen and extend the comment period for an additional 60 days to allow any interested persons to submit comments on the proposed rule.

Approved: April 06, 2021.
Xavier Becerra,
Secretary, Department of Health and Human Services.

[FR Doc. 2021-07455 Filed 4-20-21; 8:45 am]

BILLING CODE 4165-16-P